NATIONAL AERONAUTICS AND SPACE ADMINISTRATION

[Notice 13-021]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: March 1, 2013.

FOR FURTHER INFORMATION CONTACT: James J. McGroary, Patent Counsel, Marshall Space Flight Center, Mail Code LS01, Huntsville, AL 35812; telephone (256) 544-0013; fax (256) 544-0258.

NASA Case No.: MFS-32099-1-CON: Composite Pressure Vessel Including Crack Arresting Barrier;

NASA Case No.: MFS 32761-1-CIP: Eddy Current Minimizing Flow Plug for Use in Flow Conditioning and Flow Metering.

Sumara M. Thompson-King,
Deputy General Counsel.

[FR Doc. 2013-04806 Filed 2-28-13; 8:45 am]

BILLING CODE 7510-13-P